DEPARTMENT OF DEFENSE

48 CFR Part 252

[DFARS Case 2002-D028]

Defense Federal Acquisition Regulation Supplement; Caribbean Basin Country—Honduras

AGENCY: Department of Defense (DoD).

ACTION: Final rule.

SUMMARY: DoD has issued a final rule amending the Defense Federal Acquisition Regulation Supplement (DFARS) to add Honduras to the list of Caribbean Basin countries whose products DoD may acquire under the Trade Agreements Act, in accordance with a determination of the United States Trade Representative.

EFFECTIVE DATE: October 25, 2002.

FOR FURTHER INFORMATION CONTACT: Ms. Amy Williams, Defense Acquisition Regulations Council, OUSD(AT&L)DP(DAR), IMD 3C132, 3062 Defense Pentagon, Washington, DC 20301-3062. Telephone (703) 602-0328; facsimile (703) 602-0350. Please cite DFARS Case 2002-D028.

SUPPLEMENTARY INFORMATION:

A. Background

This final rule amends the clauses at DFARS 252.225-7007, Buy American Act-Trade Agreements—Balance of Payments Program, and 252.225-7021, Trade Agreements, to add Honduras to the definition of “Caribbean Basin country.” The rule implements the direction of the United States Trade Representative to treat the products of Honduras as eligible products in acquisitions subject to the Trade Agreements Act (67 FR 46239, July 12, 2002).

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subpart in accordance with 5 U.S.C. 610. Such comments should cite DFARS Case 2002-D028.

C. Paperwork Reduction Act

The Paperwork Reduction Act does not apply because the rule does not impose any information collection requirements that require the approval of the Office of Management and Budget under 44 U.S.C. 3501, et seq.

List of Subjects in 48 CFR Part 252

Government procurement.

Michele P. Peterson,
Executive Editor, Defense Acquisition Regulations Council.

Therefore, 48 CFR Part 252 is amended as follows:

1. The authority citation for 48 CFR part 252 continues to read as follows:

Authority: 41 U.S.C. 421 and 48 CFR Chapter 1.

PART 252—SOLICITATION PROVISIONS AND CONTRACT CLAUSES

252.225-7007 [Amended]

2. Section 252.225-7007 is amended as follows:

a. By revising the clause date to read “(OCT 2002)”; and

b. In paragraph (a)(1) by adding, in alphabetical order, “Honduras” to the list of countries.

252.225-7021 [Amended]

3. Section 252.225-7021 is amended as follows:

a. By revising the clause date to read “(OCT 2002)”; and

b. In paragraph (a)(1) by adding, in alphabetical order, “Honduras” to the list of countries.

[FR Doc. 02-27105 Filed 10-24-02; 8:45 am]

BILLING CODE 5001-08-P